DEPARTMENT OF AGRICULTURE

Rural Housing Service

Notice of Finding of No Significant Impact

AGENCY: Rural Housing Service, USDA.

ACTION: Notice.

SUMMARY: Notice is hereby given that the Rural Housing Service (RHS), as required by the National Environmental Policy Act, is issuing a Finding of No Significant Impact (FONSI) with respect to the preliminary affordability determination of minimum energy standards.

FOR FURTHER INFORMATION CONTACT: To obtain copies of the Environmental Assessment (EA) and FONSI, see https://www.rd.usda.gov/resources/environmental-studies/hud-usda-joint-notice. For additional information, contact Peggy Wade, Environmental Protection Specialist, Program Support Staff, Rural Housing Service, USDA—Rural Development, USDA, 202-875-3572; email: peggy.wade@usda.gov.

SUPPLEMENTARY INFORMATION: This action implements the requirements of Section 481 of the Energy Independence and Security Act of 1990 (the Act), which established procedures for the U.S. Department of Housing and Urban Development (HUD) and the U.S. Department of Agriculture (USDA) to adopt revisions to the 2006 International Energy Conservation Code (IECC) and ASHRAE90.1-2004, or subsequent revisions to these codes.

This notice addresses new construction of single-family homes financed under RHS's Section 502 Direct Loan, Section 502 Guaranteed Loan, or Section 523 Grant programs and announces USDA's preliminary determination that the 2021 IECC and ASHRAE 90.1-2019 codes will not negatively affect the affordability or availability of housing covered by the Act. Therefore, RHS has determined that this FONSI fulfills its obligations under the National Environmental Policy Act, as amended (42 U.S.C. 4321 et seq.), the Council on Environmental Quality Regulations (40 CFR parts 1500 through 1508), and USDA Rural Development's Environmental Policies and Procedures (7 CFR part 1970) for its action related to the project. RHS's federal action would not result in significant impacts to the quality of the human environment, and as such it will not prepare an Environmental Impact Statement for its action related to the proposed project.

Joaquin Altoro,
Administrator, Rural Housing Service, Rural Development, USDA.

[FR Doc. 2023-10712 Filed 5-17-23; 8:45 am]

BILLING CODE P